DEPARTMENT OF COMMERCE

Submission for OMB Review; Comment Request

The Department of Commerce has submitted to the Office of Management and Budget (OMB) for clearance the following proposal for collection of information under the provisions of the Paperwork Reduction Act (44 U.S.C. chapter 35).

Agency: National Institute of Standards and Technology (NIST).

Title: Telephone Interviews with Occupants of World Trade Center 1, 2, and 7.

Form Number(s): None.

OMB Approval Number: None.

Type of Review: Emergency submission.

Burden Hours: 750.

Number of Respondents: 1,000.

Average Hours Per Response: 45 minutes.

Needs and Uses: NIST is conducting the Federal Investigation of the World Trade Center disaster subsequent to the House Committee on Science (Sherwood Boehlert, R-NY, Chairman) hearing on May 1, 2002, on The Investigation of the World Trade Center Collapse: Findings, Recommendations and Next Steps and the House Committee on Science (Sherwood Boehlert, R-NY, Chairman) hearing on March 6, 2002, on Learning from 9/11—Understanding the Collapse of the World Trade Center. The NIST Investigation is presently conducted under the authority of the National Construction Safety Team Act (NCST), Public Law 107-231, signed into law by the President on October 1, 2002. The objectives of the NIST World Trade Center Investigation are to: (1) Determine technically, why and how the buildings WTC 1, 2, and 7 collapsed following the initial impact of the aircraft; (2) determine why the injuries and fatalities were so high or low depending on location, including all technical aspects of fire protection, response, evacuation, and occupant behavior and emergency response; (3) determine the procedures and practices that were used in the design, construction, operation, and maintenance of the World Trade Center Buildings; and (4) identify, as specifically as possible, building and fire codes, standards, and practices that warrant revision and are still in use. The first-hand accounts are critical to develop or refute investigatory hypotheses, support modeling results, and record events inside the buildings which cannot otherwise be determined. Factors which may affect the decision to initiate evacuation, including emergency communications, previous evacuation experience (1993 bombing), and training, will be examined. Further, this study will estimate the initial population of the World Trade Center 1, 2, and 7 on the morning of September 11, 2001. Ultimately, the data from this study will inform the development and revision of building codes, standards, and practices for the evacuation of high-rise buildings. This information collection must be conducted in a timely manner in order to facilitate dissemination to other aspects of the Investigation, including structural analysis, emergency personnel response, thermal environment and interior tenability, and egress and human behavior analysis.

Affected Public: Individuals or households.

Frequency: One-time.

Respondent's Obligation: Voluntary.

OMB Desk Officer: Jacqueline Zeiher, (202) 395-4638.

Copies of the above information collection proposal can be obtained by calling or writing Diana Hynek, Departmental Paperwork Clearance Officer, (202) 482-0266, Department of Commerce, Room 6625, 14th and Constitution Avenue, NW., Washington, DC 20230 (or via the Internet at dHynek@doc.gov).

Written comments and recommendations for the proposed information collection should be sent by September 15, 2003 to Jacqueline Zeiher, OMB Desk Officer, Room 10202, New Executive Office Building, Washington, DC 20503.

Dated: August 8, 2003.
Gwellnar Banks,
Management Analyst, Office of the Chief Information Officer.

[FR Doc. 03-20611 Filed 8-12-03; 8:45 am]

BILLING CODE 3150-13-P